INTERNATIONAL TRADE COMMISSION

[Investigation No. 337-TA-1437]

Certain Dryer Wall Exhaust Vent Assemblies and Components Thereof; Notice of a Commission Determination To Issue Remedial Orders Against the Defaulting Respondent; Termination of Investigation

AGENCY: U.S. International Trade Commission.

ACTION: Notice.

SUMMARY: Notice is hereby given that the U.S. International Trade Commission (“Commission”) has determined to issue a limited exclusion order and cease and desist order against defaulting respondent Xiamen Dirongte Trading Co., Ltd. of Xiamen City, China (“Xiamen”), the sole respondent in this investigation. The Commission has also determined to impose a bond equal to one hundred percent (100%) of the entered value of the infringing products imported during the period of Presidential review. The investigation is hereby terminated.

FOR FURTHER INFORMATION CONTACT: Ronald A. Traud Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On February 6, 2025, the Commission instituted this investigation based on a complaint filed on behalf of InOvate Acquisition Company of Jupiter, Florida (“InOvate”). 90 FR 9084 (Feb. 6, 2025). The complaint, as supplemented, alleges violations of section 337 of the Tariff Act of 1930, as amended, 19 U.S.C. 1337, based on the importation into the United States, the sale for importation, or sale within the United States after importation of certain dryer wall exhaust vent assemblies and components thereof by reason of the infringement of certain claims of U.S. Patent No. 11,953,230 (“the '230 patent”). Id. The complaint further alleges that an industry in the United States exists as required by section 337. Id. The Commission's notice of investigation named as the sole respondent Xiamen Dirongte Trading Co., Ltd. of Xiamen City, China (“Xiamen”). Id. The Office of Unfair Import Investigations is not participating in this investigation. Id.

On March 14, 2025, the ALJ issued Order No. 6, which directed Xiamen to show cause why it should not be found in default and why judgment should not be rendered against it for failing to respond to the complaint and notice of investigation. Order No. 6 (Mar. 14, 2025). Xiamen did not respond to Order No. 6.

On April 15, 2025, the ALJ issued Order No. 7, which found Xiamen in default pursuant to Commission Rule 210.16 (19 CFR 210.16). On May 5, 2025, the Commission determined not to review Order No. 7 and requested briefing on the issues of remedy, bonding, and the public interest. 90 FR 19531 (May 8, 2025).

On May 19, 2025, InOvate filed a response to the Commission's notice requesting that the Commission issue a limited exclusion order and cease and desist order against Xiamen. No other responses or replies were received.

When the conditions in section 337(g)(1)(A)-(E) (19 U.S.C. 1337(g)(1)(A)-(E)) have been satisfied, section 337(g)(1) and Commission Rule 210.16(c) (19 CFR 210.16(c)) direct the Commission, upon request, to issue a limited exclusion order or a cease and desist order or both against a respondent found in default, based on the allegations regarding a violation of section 337 in the complaint, which are presumed to be true, unless after consideration of the public interest factors in section 337(g)(1), it finds that such relief should not issue.

Having examined the record of this investigation, including InOvate's complaint and its submission in response to the remedy notice, the Commission has determined, pursuant to section 337(g)(1) (19 U.S.C. 1337(g)(1), that the appropriate remedy in this investigation is: (1) a limited exclusion order prohibiting the unlicensed entry of certain dryer wall exhaust vent assemblies and components thereof by reason of the infringement of certain claims of the '230 patent by Xiamen and a (2) cease and desist order directed to Xiamen. The Commission has determined that the public interest factors enumerated in subsection 337(g)(1) do not preclude the issuance of the limited exclusion order and cease and desist order. The Commission has further determined that the bond during the period of Presidential review pursuant to section 337(j) (19 U.S.C. 1337(j)) shall be in the amount of one hundred percent (100%) of the entered value of the imported articles that are subject to the limited exclusion order.

The Commission vote for this determination took place on June 16, 2025.

The authority for the Commission's determination is contained in section 337 of the Tariff Act of 1930, as amended (19 U.S.C. 1337), and in Part 210 of the Commission's Rules of Practice and Procedure (19 CFR part 210).

By order of the Commission.
Issued: June 16, 2025.
Susan Orndoff,
Supervisory Attorney.

[FR Doc. 2025-11227 Filed 6-17-25; 8:45 am]

BILLING CODE 7020-02-P